DEPARTMENT OF ENERGY

Federal Energy Regulatory Commission

[Docket No. RP19-310-000]

Arena Energy, LP, Castex Offshore, Inc., EnVen Energy Ventures, LLC, Fieldwood Energy LLC, Walter Oil & Gas Corporation, W&T Offshore, Inc. v. High Point Gas Transmission, LLC; Notice of Complaint

Take notice that on November 21, 2018, 2018, pursuant to Rule 206 of the Federal Energy Regulatory Commission's (Commission) Rules of Practice and Procedure, 18 CFR 385.206 (2018), Arena Energy LP, Castex Offshore, Inc., EnVen Energy Ventures, LLC, Fieldwood Energy LLC, W&T Offshore, Inc., and Walter Oil & Gas Corporation (Complainants) filed a complaint against High Point Gas Transmission, LLC (Respondent), alleging that Respondent failed to adequately respond to a request for transportation service, is in violation of the Commission's open-access transportation policies, the Commission's policies with respect to an interstate pipeline acquiring off-system capacity, and Respondent's FERC Gas Tariff., all as more fully explained in the complaint.

The Complainants certify that a copy of the complaint was served on Respondent's corporate representatives designated on the Commission's Corporate Officials List.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for electronic review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on December 11, 2018.

Dated: November 23, 2018.
Nathaniel J. Davis, Sr.,
Deputy Secretary.

[FR Doc. 2018-26006 Filed 11-29-18; 8:45 am]

BILLING CODE 6717-01-P